DEPARTMENT OF ENERGY

Federal Energy Regulatory Commission

[Project No. 13324-000]

Cedar Creek Hydro, LLC; Notice of Preliminary Permit Application Accepted for Filing and Soliciting Comments, Motions To Intervene, and Competing Applications

December 30, 2008.

On November 5, 2008, Cedar Creek, LLC filed an application, pursuant to section 4(f) of the Federal Power Act, proposing to study the feasibility of the Cedar Creek Pumped Storage Project to be located in Briscoe County, Texas.

The proposed project consists of: (1) Two proposed earthen dams, upper dam 60-foot-high, 12,700-foot-long, lower dam 140-foot-high, 1,600-foot-long; (2) two proposed reservoirs, upper reservoir having a surface area of 283 acres, a storage capacity of 7,660 acre-feet, and normal maximum water surface elevation of 3,340 feet msl, lower reservoir having a surface area of 151 acres, a storage capacity of 8,550 acre-feet, and normal maximum water surface elevation of 2,600 feet msl; (3) a proposed 3,720-foot-long, 28-foot-diameter steel penstock; (4) a proposed powerhouse with six generating units having a total capacity of 662-megawatts; (5) a proposed 26-mile-long, 240-kV transmission line; and (6) appurtenant facilities. The project would have an annual generation of 1,816-gigawatt hours, which would be sold to a local utility.

Applicant Contact: Mr. Brent L. Smith, Symbiotics, LLC, P.O. Box 535, Rigby, ID 83442, Phone: 208-745-0834.

FERC Contact: Patricia W. Gillis, 202-502-8735.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-13324) in the docket number field to access the document. For assistance, call toll-free 1-866-208-3372.

Kimberly D. Bose,
Secretary.

[FR Doc. E8-31434 Filed 1-5-09; 8:45 am]

BILLING CODE 6717-01-P